FEDERAL HOUSING FINANCE BOARD

Announcing an Open Meeting of the Board

Time and Date: 10 a.m., Wednesday, November 14, 2001.

Place: Board Room, Second Floor, Federal Housing Finance Board 1777 F Street, NW., Washington, DC 20006.

Status: The entire meeting will be open to the public.

Matters to be Considered During Portions Open to the Public: • Final Rule: Unsecured Credit Limits for the Federal Home Loan Banks.

• Proposed Rule: Amendments to the Affordable Housing Program.

Contact Person for More Information: Elaine L. Baker, Secretary to the Board, (202) 408-2837.

James L. Bothwell,
Managing Director.

[FR Doc. 01-28411 Filed 11-7-01; 2:48 pm]

BILLING CODE 6725-01-P